DEPARTMENT OF COMMERCE

National Oceanic and Atmospheric Administration

RIN 0648-XD983

Record of Decision for the Final NOAA Restoration Center Programmatic Environmental Impact Statement

AGENCY: National Marine Fisheries Service (NMFS), National Oceanic and Atmospheric Administration (NOAA), Commerce.

ACTION: Notice of availability of a Record of Decision.

SUMMARY: The NOAA National Marine Fisheries Service (NMFS) announces the availability of the Record of Decision (ROD) for the Final NOAA Restoration Center Programmatic Environmental Impact Statement. The NMFS Office of Habitat Conservation Director signed the ROD on July 20, 2015, which constitutes the agency's final decision.

ADDRESSES: Frederick C. Sutter, Director, Office of Habitat Conservation, National Oceanic and Atmospheric Administration, 1315 East-West Highway, Silver Spring, MD 20910.

FOR FURTHER INFORMATION CONTACT: Melanie Gange, by mail at NOAA Restoration Center/FHC3, 1315 East-West Highway, Silver Spring, MD 20910; or by telephone at 301-427-8664.

SUPPLEMENTARY INFORMATION: The PEIS evaluated broad issues and programmatic-level alternatives (compared to a document for a specific project or action) for future restoration activities to be carried out by NOAA. In addition to providing a programmatic analysis, NOAA intends to use this document to approve future site-specific actions, including grant actions, as long as the activity being proposed is within the range of alternatives and scope of potential environmental consequences described in the PEIS, and does not have significant adverse impacts. Any future site-specific restoration activities proposed by NOAA that are not within the scope of alternatives or environmental consequences considered in the PEIS will require additional analysis under the National Environmental Policy Act (NEPA).

The ROD documents the decision by NOAA to select and implement the “Current Management” alternative as its preferred alternative. The alternative represents a comprehensive programmatic restoration approach that includes funding or conducting activities such as providing technical assistance; on-the-ground riverine and coastal habitat restoration activities (including but not limited to: Fish passage projects; channel, bank, and floodplain restoration; buffer area and watershed revegetation; salt marsh restoration; oyster restoration; marine debris removal; submerged aquatic vegetation planting; invasive species removal; and coral restoration); and habitat conservation transactions. Because this is a continuation of NOAA Restoration Center's (RC) on-going restoration programs with no change in management direction, it was also considered to be the “No Action” alternative.

The NOAA RC is not soliciting comments on the PEIS but will consider any comments submitted that would assist us in preparing future NEPA documents. An electronic copy of the PEIS is available at: http://www.restoration.noaa.gov/environmentalcompliance. Electronic correspondence regarding it can be submitted to rc.compliance@noaa.gov. Otherwise, please submit any written comments via U.S. mail to the responsible official named in the ADDRESSES section.

Dated: July 15, 2015.
Frederick C. Sutter,
Director, Office of Habitat Conservation, National Marine Fisheries Service.

[FR Doc. 2015-17739 Filed 7-17-15; 8:45 am]

BILLING CODE 3510-22-P